NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by August 26, 2021. This application may be inspected by interested parties at the Permit Office, address below.

ADDRESSES: Comments should be addressed to Permit Office, Office of Polar Programs, National Science Foundation, 2415 Eisenhower Avenue, Alexandria, Virginia 22314.

FOR FURTHER INFORMATION CONTACT: Polly Penhale, ACA Permit Officer, at the above address, 703-292-7420, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2022-005

1. Applicant:Leidos Innovations Group, Antarctic Support Contract; 7400 S Tucson Way, Centennial, CO 80112

Activity for Which Permit is Requested:Harmful Interference, introduce non-indigenous species into Antarctica. The applicant is requesting a permit for two aspects of the Palmer Pier Replacement Project—the potential harmful interference to avian species and the introduction of non-indigenous species for use in a Marine Sanitation Device—to support the National Science Foundation (NSF) funded United States Antarctic Program (USAP) construction of a new pier. A permit is requested for potential harmful interference of avian species during the construction process. Noise generated by the demolition of the existing pier and construction of a new pier may cause disturbance to avian species in the vicinity of the project area. Mitigation measures will be put into place to minimize potential disturbance to wildlife in the area.

The applicant also requests a permit for the importation of commercially available, proprietary bacterial supplements for use in Marine Sanitation Devices aboard vessels deployed in support of the Palmer Pier Replacement Project. These supplements are used to improve wastewater treatment operation. Bacteria would not be released into the environment, and all effluent is to undergo complete disinfection prior to discharge.

Location: Palmer Station, Antarctic Peninsula.

Dates of Permitted Activities:October 1, 2021-January 31, 2023.

Erika N. Davis,
Program Specialist, Office of Polar Programs.

[FR Doc. 2021-15967 Filed 7-26-21; 8:45 am]

BILLING CODE 7555-01-P